DEPARTMENT OF ENERGY

Federal Energy Regulatory Commission

Combined Notice of Filings

March 1, 2010.

Take notice that the Commission has received the following Natural Gas Pipeline Rate and Refund Report filings:

Docket Numbers: RP10-394-000

Applicants: Quest Pipelines (KPC)

Description: Quest Pipelines (KPC) submits Second Revised Sheet No. 1 et al to FERC Gas Tariff, Second Revised Volume No. 1, to be effective 4/1/10.

Filed Date: 02/25/2010

Accession Number: 20100225-0208

Comment Date: 5 p.m. Eastern Time on Tuesday, March 9, 2010

Docket Numbers: RP10-395-000

Applicants: Transcontinental Gas Pipe Line Company,

Description: Transcontinental Gas Pipeline Company submits Eighth Revised Sheet No. 21 et al to FERC Gas Tariff, Fourth Revised Volume No. 1, to be effective 4/1/10.

Filed Date: 02/25/2010

Accession Number: 20100225-0209

Comment Date: 5 p.m. Eastern Time on Tuesday, March 9, 2010

Docket Numbers: RP10-396-000

Applicants: Cameron Interstate Pipeline, LLC

Description: Waiver Request of Cameron Interstate Pipeline, LLC.

Filed Date: 02/25/2010

Accession Number: 20100225-5122

Comment Date: 5 p.m. Eastern Time on Tuesday, March, 2010

Docket Numbers: RP10-397-000

Applicants: Natural Gas Pipeline Company of America LLC

Description: Natural Gas Pipeline Company of America LLC submits Second Revised Sheet 35C.05 et al to its FERC Gas Tariff, Seventh Revised Volume 1, to be effective 3/1/09.

Filed Date: 02/25/2010

Accession Number: 20100226-0301

Comment Date: 5 p.m. Eastern Time on Tuesday, March 9, 2010

Docket Numbers: RP10-398-000

Applicants: Sabine Pipe Line, LLC

Description: Sabine Pipe Line LLC submits Fourteenth Revised Sheet 20 to its FERC Gas Tariff, Original Volume 1, to be effective 4/1/10.

Filed Date: 02/25/2010

Accession Number: 20100226-0302

Comment Date: 5 p.m. Eastern Time on Tuesday, March 9, 2010

Docket Numbers: RP10-399-000

Applicants: Colorado Interstate Gas Company

Description: Colorado Interstate Gas Company submits Second Revised Sheet 11E et al to its FERC Gas Tariff, First Revised Volume 1, to be effective 3/29/10.

Filed Date: 02/25/2010

Accession Number: 20100226-0306

Comment Date: 5 p.m. Eastern Time on Tuesday, March 9, 2010

Docket Numbers: RP10-400-000

Applicants: Stingray Pipeline Company, LLC.

Description: Stingray Pipeline Company, LLC. updated event surcharge to be effective 4/1/10.

Filed Date: 02/25/2010

Accession Number: 20100225-5123

Comment Date: 5 p.m. Eastern Time on Tuesday, March 9, 2010

Docket Numbers: RP10-401-000

Applicants: Columbia Gas Transmission, LLC

Description: Columbia Gas Transmission, LLC submits FERC Gas Tariff, Third Revised Volume 1 to Tenth Revised Sheet 25 et al, to be effective 4/1/10.

Filed Date: 02/26/2010

Accession Number: 20100226-0026

Comment Date: 5 p.m. Eastern Time on Wednesday, March 10, 2010

Docket Numbers: RP10-402-000

Applicants: Columbia Gas Transmission, LLC

Description: Columbia Gas Transmission, LLC submits Ninth Revised Sheet No. 25 et al to FERC Gas Tariff, Third Revised Volume No. 1, to be effective 4/1/10.

Filed Date: 02/26/2010

Accession Number: 20100226-0029

Comment Date: 5 p.m. Eastern Time on Wednesday, March 10, 2010

Docket Numbers: RP10-403-000

Applicants: High Island Offshore System, LLC.

Description: High Island Offshore System, LLC submits FERC Gas Tariff, Tenth Revised Sheet 11, to be effective 4/1/2010.

Filed Date: 02/26/2010

Accession Number: 20100226-0028

Comment Date: 5 p.m. Eastern Time on Wednesday, March 10, 2010

Docket Numbers: RP10-404-000

Applicants: Northern Natural Gas Company

Description: Petition of Northern Natural Gas Company for Limited Waiver of Tariff Provisions.

Filed Date: 02/26/2010

Accession Number: 20100226-0027

Comment Date: 5 p.m. Eastern Time on Wednesday, March 10, 2010

Docket Numbers: RP10-405-000

Applicants: Wyoming Interstate Company, Ltd.

Description: Wyoming Interstate Company, Ltd submits Sixteenth Revised Sheet 1 to its FERC Electric Gas Tariff, Second Revised Volume 2, to be effective 3/29/10.

Filed Date: 02/25/2010

Accession Number: 20100226-0030

Comment Date: 5 p.m. Eastern Time on Tuesday, March 9, 2010

Docket Numbers: RP10-406-000

Applicants: Dominion Cove Point LNG, LP

Description: Dominion Cove Point LNG, LP submits Thirteenth Revised Sheet 10 to its FERC Gas Tariff, Original Volume 1, to be effective 4/1/10.

Filed Date: 02/26/2010

Accession Number: 20100226-0041

Comment Date: 5 p.m. Eastern Time on Wednesday, March 10, 2010

Docket Numbers: RP10-407-000

Applicants: CenterPoint Energy Gas Transmission Company

Description: CenterPoint Energy Gas Transmission Company submits Second Revised Sheet 686 to its FERC Gas Tariff, Sixth Revised Volume 1, to be effective 4/1/10.

Filed Date: 02/26/2010

Accession Number: 20100226-0040

Comment Date: 5 p.m. Eastern Time on Wednesday, March 10, 2010

Docket Numbers: RP10-408-000

Applicants: Dominion Cove Point LNG, LP

Description: Dominion Cove Point LNG, LP submits Thirteenth Revised Sheet No 11 et al to FERC Gas Tariff, Original Volume No 1, to be effective 4/1/10.

Filed Date: 02/26/2010

Accession Number: 20100226-0036

Comment Date: 5 p.m. Eastern Time on Wednesday, March 10, 2010

Docket Numbers: RP10-409-000

Applicants: Colorado Interstate Gas Company

Description: Quarterly Lost, Unaccounted For and Other Fuel Gas Reimbursement Percentage FL&U of Colorado Interstate Gas Company.

Filed Date: 02/26/2010

Accession Number: 20100226-5083

Comment Date: 5 p.m. Eastern Time on Wednesday, March 10, 2010

Docket Numbers: RP10-410-000

Applicants: Rockies Express Pipeline LLC

Description: Rockies Express Pipeline submits their annual FL & U percentage reconciliation and adjustment report for the 12/31/09 ending year.

Filed Date: 02/26/2010

Accession Number: 20100226-0037

Comment Date: 5 p.m. Eastern Time on Wednesday, March 10, 2010

Docket Numbers: RP10-411-000

Applicants: TransColorado Gas Transmission Company

Description: TransColorado Gas Transmission Company submits Annual Fuel Gas Reimbursement Percentage Report for the year ended 12/31/09.

Filed Date: 02/26/2010

Accession Number: 20100226-0039

Comment Date: 5 p.m. Eastern Time on Wednesday, March 10, 2010

Docket Numbers: RP10-413-000

Applicants: Transcontinental Gas Pipe Line Company, LLC

Description: Transcontinental Gas Pipe Line Company, LLC submits the eighteen executed amendments to previously filed service agreements that contain negotiated rates under Rate Schedule FT with Atlanta Gas Light Co.

Filed Date: 02/26/2010

Accession Number: 20100301-0025

Comment Date: 5 p.m. Eastern Time on Wednesday, March 10, 2010

Docket Numbers: RP10-414-000

Applicants: National Fuel Gas Supply Corporation

Description: National Fuel Gas Supply Corporation submits their 133rd Revised Sheet 9 to FERC Gas Tariff, Fourth Revised Volume 1, to be effective 3/1/10.

Filed Date: 02/26/2010

Accession Number: 20100301-0021

Comment Date: 5 p.m. Eastern Time on Wednesday, March 10, 2010

Docket Numbers: RP10-415-000

Applicants: Tennessee Gas Pipeline Company

Description: Tennessee Gas Pipeline Company submits their Fifteenth Revised Sheet 1 et al to FERC Gas Tariff, Fifth Revised Volume 1, to be effective 3/29/10.

Filed Date: 02/26/2010

Accession Number: 20100301-0022

Comment Date: 5 p.m. Eastern Time on Wednesday, March 10, 2010

Docket Numbers: RP10-416-000

Applicants: Egan Hub Storage, LLC

Description: Egan Hub Storage, LLC submits Fifth Revised Sheet 110 to its FERC Gas Tariff, Fifth Revised Volume 1, to be effective 4/1/10.

Filed Date: 02/26/2010

Accession Number: 20100301-0023

Comment Date: 5 p.m. Eastern Time on Wednesday, March 10, 2010

Docket Numbers: RP10-417-000

Applicants: Egan Hub Storage, LLC

Description: Egan Hub Storage, LLC submits Sixth Revised Sheet 104 et al to its FERC Gas Tariff, First Revised Volume 1, to be effective 3/28/10.

Filed Date: 02/26/2010

Accession Number: 20100301-0024

Comment Date: 5 p.m. Eastern Time on Wednesday, March 10, 2010

Docket Numbers: RP10-418-000

Applicants: Viking Gas Transmission Company

Description: Viking Gas Transmission Company submits Twenty-Eight Revised Sheet 5B to its FERC Gas Tariff, First Revised Volume 1, to be effective 4/1/10.

Filed Date: 02/26/2010

Accession Number: 20100301-0044

Comment Date: 5 p.m. Eastern Time on Wednesday, March 10, 2010

Docket Numbers: RP10-419-000

Applicants: Viking Gas Transmission Company

Description: Viking Gas Transmission Company submits Fifteenth Revised Sheet 5C to its FERC Gas Tariff, First Revised Volume 1, to be effective 4/1/10.

Filed Date: 02/26/2010

Accession Number: 20100301-0045

Comment Date: 5 p.m. Eastern Time on Wednesday, March 10, 2010

Docket Numbers: RP10-421-000

Applicants: Guardian Pipeline, LLC

Description: Guardian Pipeline, LLC submits Sixth Revised Sheet 1 et al to its FERC Gas Tariff, Original Volume 1, to be effective 4/1/10.

Filed Date: 02/26/2010

Accession Number: 20100301-0057

Comment Date: 5 p.m. Eastern Time on Wednesday, March 10, 2010

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-4640 Filed 3-4-10; 8:45 am]

BILLING CODE 6717-01-P